DEPARTMENT OF TRANSPORTATION

Office of the Secretary

14 CFR Part 234

[Docket No. DOT-OST-2014-0056]

RIN 2105-AE66

Enhancing Airline Passenger Protections III: Extension of Compliance Date for Provision Concerning Baggage Handling Statistics Report

AGENCY: Office of the Secretary (OST), Department of Transportation (DOT).

ACTION: Final rule.

SUMMARY: The Department of Transportation is amending its regulations by extending the compliance date from January 1, 2018, to January 1, 2019, for the provision concerning reporting of baggage handling statistics in the Department's final rule on enhancing airline passenger protections. This extension is necessary to ensure consistency with the change of compliance date for the Department's final rule on reporting of data for mishandled baggage and wheelchairs.

DATES: This final rule is effective March 22, 2017.

FOR FURTHER INFORMATION CONTACT: Blane A. Workie, Office of Aviation Enforcement and Proceedings, U.S. Department of Transportation, 1200 New Jersey Ave. SE., Washington, DC, 20590, 202-366-9342, 202-366-7152 (fax), blane.workie@dot.gov (email).

SUPPLEMENTARY INFORMATION: On November 3, 2016, the Department of Transportation published a final rule in the Federal Register (81 FR 76800), titled “Enhancing Airline Passenger Protections III” (RIN 2105-AE11). This rule, among other things, expands the pool of carriers that must report airline service and performance data from any carrier that accounts for at least 1% of domestic scheduled passenger revenue to any carrier that accounts for at least 0.5% of domestic scheduled passenger revenue. It also requires reporting carriers to separately report airline service and performance data for their domestic scheduled flights operated by their code-share partners. This means that, under the November 2016 final rule, for air transportation taking place on or after January 1, 2018, airlines that account for at least 0.5% of domestic scheduled passenger revenue must provide airline service and performance data for flights they operate and separately for flights held out with their designator code and operated by their code-share partners. The airline service and performance data that is required consists of on-time performance, mishandled baggage and oversales data.

On March 2, 2017, the Department issued a rule extending the compliance date of its final rule on reporting of data for mishandled baggage and wheelchairs in aircraft cargo compartments to January 1, 2019. That final rule addressed the methodology for collection of mishandled baggage information and required separate statistics for mishandled wheelchairs and scooters used by passengers with disabilities. The change to the matrix on how to report mishandled baggage and to provide separate reporting of mishandled wheelchairs and scooters was incorporated into the Department's Enhancing Airline Passenger Protections III final rule. As such, this document is extending the compliance date to January 1, 2019 for the provision concerning baggage handling statistics in the Department's final rule on enhancing airline passenger protections. The compliance date for the requirements pertaining to on-time performance and oversales remain unchanged.

As is the case today, until January 1, 2019, airlines that account for at least 1% of domestic scheduled passenger revenue will continue to provide mishandled baggage data only for flights they operate based on the number of Mishandled Baggage Reports and the number of domestic passenger enplanement. Airlines that account for at least 0.5% but less than 1% of the domestic scheduled passenger revenue are not required to provide mishandled baggage data until February 15, 2019 for air transportation taking place on or after January 1, 2019. Separate statistics for mishandled wheelchairs and scooters used by passengers with disabilities and transported in aircraft cargo compartment are not required until January 1, 2019.

List of Subjects in 14 CFR Part 234

Air carriers, Mishandled baggage, On-time statistics, Reporting, Uniform system of accounts.

Issued this 9th day of March 2017, in Washington, DC under authority delegated in 49 CFR 1.27(n):
Judith S. Kaleta,
Deputy General Counsel.

Accordingly, the Department of Transportation amends 14 CFR part 234 as follows:

PART 234—[AMENDED]

1. The authority citation for part 234 continues to read as follows:

Authority: 49 U.S.C. 329, 41101, and 41701.

2. Section 234.6 is revised to read as follows:

§ 234.6 Baggage-handling statistics.

(a) For air transportation taking place before January 1, 2019, an air carrier certificated under 49 U.S.C. 41102 that accounts for at least 1 percent of domestic scheduled-passenger revenues in the most recently reported 12-month period as defined by the Department's Office of Airline Information, and as reported to the Department pursuant to part 241 of this title shall, for the flights it operates, report monthly to the Department on a domestic system basis, excluding charter flights, the total number of passengers enplaned system-wide and the total number of mishandled-baggage reports filed with the carrier for any nonstop flight, including a mechanically delayed flight, to or from any airport within the contiguous 48 states that accounts for at least 1 percent of domestic scheduled-passenger enplanements in the previous calendar year, as reported to the Department pursuant to part 241 of this title.

(b) For air transportation taking place on or after January 1, 2019, an air carrier certificated under 49 U.S.C. 41102 that accounts for at least 0.5 percent of domestic scheduled-passenger revenues in the most recently reported 12-month period as defined by the Department's Office of Airline Information, and as reported to the Department pursuant to part 241 of this title shall report monthly to the Department on a domestic system basis, excluding charter flights:

(1) The total number of checked bags enplaned, including gate checked baggage, “valet bags,” interlined bags, and wheelchairs and scooters enplaned in the aircraft cargo compartment for any domestic nonstop scheduled passenger flight, including a mechanically delayed flight, operated by the carrier to or from any U.S. large, medium, small or non-hub airport as defined in 49 U.S.C. 41702 and separately for any domestic nonstop scheduled passenger flight, including a mechanically delayed flight, held out with only the carrier's designator code to or from any U.S. large, medium, small, or non-hub airport as defined in 49 U.S.C. 47102 and operated by any code-share partner that is a certificated air carrier or commuter air carrier;

(2) The total number of wheelchairs and scooters that were enplaned in the aircraft cargo compartment for any domestic nonstop scheduled passenger flight, including a mechanically delayed flight, operated by the carrier to or from any U.S. large, medium, small or non-hub airport as defined in 49 U.S.C. 41702 and separately for any domestic nonstop scheduled passenger flight, including a mechanically delayed flight, held out with only the carrier's designator code to or from any U.S. large, medium, small, or non-hub airport as defined in 49 U.S.C. 47102 and operated by any code-share partner that is a certificated air carrier or commuter air carrier;

(3) The number of mishandled checked bags, including gate-checked baggage, “valet bags,” interlined bags and wheelchairs and scooters that were enplaned in the aircraft cargo compartment for any domestic nonstop scheduled passenger flight, including a mechanically delayed flight, operated by the carrier to or from any U.S. large, medium, small or non-hub airport as defined in 49 U.S.C. 41702 and separately for any domestic nonstop scheduled passenger flight, including a mechanically delayed flight, held out with only the carrier's designator code to or from any U.S. large, medium, small, or non-hub airport as defined in 49 U.S.C. 47102 and operated by any code-share partner that is a certificated air carrier or commuter air carrier; and

(4) The number of mishandled wheelchairs and scooters that were enplaned in the aircraft cargo compartment for any domestic nonstop scheduled passenger flight, including a mechanically delayed flight, operated by the carrier to or from any U.S. large, medium, small or non-hub airport as defined in 49 U.S.C. 41702 and separately for any domestic nonstop scheduled passenger flight, including a mechanically delayed flight, held out with only the carrier's designator code to or from any U.S. large, medium, small, or non-hub airport as defined in 49 U.S.C. 47102 and operated by any code-share partner that is a certificated air carrier or commuter air carrier.

(c) The information in paragraphs (a) and (b) of this section shall be submitted to the Department within 15 days after the end of the month to which the information applies and must be submitted with the transmittal accompanying the data for on-time performance in the form and manner set forth in accounting and reporting directives issued by the Director, Office of Airline Information.

[FR Doc. 2017-05113 Filed 3-21-17; 8:45 am]

BILLING CODE 4910-9X-P